DEPARTMENT OF HOMELAND SECURITY

Coast Guard

46 CFR Parts 8 and 197

[Docket No. USCG-1998-3786]

RIN 1625-AA21

Commercial Diving Operations—Reopening of Comment Period

AGENCY: Coast Guard, DHS.

ACTION: Notice of proposed rulemaking; reopening of comment period.

SUMMARY: The Coast Guard is reopening for 60 days the comment period for the notice of proposed rulemaking entitled “Commercial Diving Operations,” published on February 19, 2015. Reopening the comment period will allow time for the public to review and submit comments on changes to the applicability of this proposed rule, and on the draft regulatory analysis documentation that was not available in the docket during the original comment period. This notice of proposed rulemaking also provides corrected contact information for those persons interested in the proposed regulatory incorporation of certain material by reference, and the reopened comment period facilitates public comment on the proposed incorporation. Finally, although we are making no changes to the collection of information proposed in the February notice of proposed rulemaking, during the reopened comment period the public may continue to submit additional comments on that proposed collection. Specific instructions for commenting on the proposed collection are printed in the ADDRESSES section that follows.

DATES: The comment period for the notice of proposed rulemaking published on February 19, 2015 (80 FR 9152), is reopened. Comments and related material must be submitted to the docket by October 23, 2015. Comments sent to the Office of Management and Budget (OMB) on collection of information must reach OMB on or before October 23, 2015.

ADDRESSES: Submit comments using one of the listed methods, and see SUPPLEMENTARY INFORMATION for more information on public comments.

• Online—http://www.regulations.gov following Web site instructions.

• Fax—202-493-2251.

• Mail—Docket Management Facility (M-30), U.S. Department of Transportation, West Building Ground Floor, Room W12-140, 1200 New Jersey Avenue SE., Washington, DC 20590-0001.

• Hand deliver—mail address, 9 a.m. to 5 p.m., Monday through Friday, except Federal holidays (telephone 202-366-9329).

Collection of information. You must submit comments on the collection of information discussed in the notice of proposed rulemaking at 80 FR 9173 both to the Coast Guard's docket and to the Office of Information and Regulatory Affairs (OIRA) in the White House Office of Management and Budget. OIRA submissions can be made using one of the listed methods.

• Email (preferred)—oira_submission@omb.eop.gov (include the docket number and “Attention: Desk Officer for Coast Guard, DHS” in the subject line of the email).

• Fax—202-395-6566.

• Mail—Office of Information and Regulatory Affairs, Office of Management and Budget, 725 17th Street NW., Washington, DC 20503, ATTN: Desk Officer, U.S. Coast Guard.

Viewing material proposed for incorporation by reference. To make arrangements to view this material, please call or email Mr. Ken Smith (see FOR FURTHER INFORMATION CONTACT).

FOR FURTHER INFORMATION CONTACT: If you have questions on this notice of proposed rulemaking, call or email Mr. Ken Smith, Project Manager, U.S. Coast Guard, Headquarters, Vessel and Facility Operating Standards Division, Commandant (CG-OES-2); telephone 202-372-1413, email Ken.A.Smith@uscg.mil. If you have questions on viewing or submitting material to the docket, call Cheryl Collins, Program Manager, Docket Operations, telephone 202-366-9826.

SUPPLEMENTARY INFORMATION:

A. Public Participation and Comments

We encourage you to submit comments (or related material) on this notice of proposed rulemaking (NPRM). We will consider all submissions and may adjust our final action based on your comments. Comments should be marked with docket number USCG-1998-3786, and should provide a reason for each suggestion or recommendation. You may provide personal contact information so that we can contact you if we have questions regarding your comments, but please note that all comments will be posted to the online docket without change and any personal information you include will be searchable online (see the Federal Register Privacy Act notice regarding our public dockets, 73 FR 3316, Jan. 17, 2008).

Mailed or hand-delivered comments should be in an unbound 8½ × 11 inch format suitable for reproduction. The Docket Management Facility will acknowledge receipt of mailed comments if you enclose a stamped, self-addressed postcard or envelope with your submission.

Documents mentioned in this NPRM and all public comments are available in our online docket at http://www.regulations.gov and can be viewed by following the instructions on that Web site. You can also view the docket online at the Docket Management Facility (see the address under ADDRESSES) between 9 a.m. and 5 p.m., Monday through Friday, except Federal holidays.

B. Regulatory History and Information

On February 19, 2015, we published an NPRM entitled “Commercial Diving Operations” (80 FR 9152) that proposed amendments to our regulations for commercial diving conducted from deepwater ports or deepwater port safety zones, or in connection with Outer Continental Shelf (OCS) activities, or from vessels that are required to have a Coast Guard certificate of inspection. The NPRM would revise and update current regulations to improve safety and to reflect current industry best practices. The NPRM would also allow the Coast Guard to approve independent third-party organizations to assist in ensuring compliance with commercial diving regulations. All comments on the NPRM, including comments on the proposed collection of information, were due by May 20, 2015. In the course of reviewing comments on the NPRM, we became aware of several errors on our part.

First, on page 9175 of the NPRM, our proposed regulatory text for 46 CFR 197.200 contained two unintended changes in the applicability of subpart B. We do not intend, despite the proposed language for § 197.200(a)(3), to extend applicability to commercial diving operations involving any vessel operating on the navigable waters of the United States. Nor do we intend, despite the proposed language for § 197.200(a)(5), to remove from applicability those U.S. vessels engaged in an OCS activity as defined in 33 CFR part 140, or connected to a deepwater port as defined in 33 CFR part 150. In a final rule, in § 197.200, we would remove paragraph (a)(3), remove the words “foreign flagged” from paragraph (a)(5), and renumber paragraphs in accordance with this change. As we stated in Table 2 on page 9156 of the NPRM, our intentions for § 197.200 are only to add paragraph (d) concerning foreign vessels, and to improve the clarity of our existing provisions, without making any other changes to the substance of the applicability provisions of subpart B.

Second, we provided incorrect telephone and email contact information for those wishing to view material proposed for incorporation by reference on pages 9158 and 9159 of the NPRM. To make arrangements to view that material, please contact Mr. Ken Smith (see FOR FURTHER INFORMATION CONTACT).

Third, throughout the NPRM comment period that ended May 20, 2015, the Preliminary Regulatory Analysis and Interim Regulatory Flexibility Analysis document for the NPRM was unavailable in the rulemaking docket. We corrected that omission in June 2015, and that document is currently available at http://www.regulations.gov as docket number USCG-1998-3786-0195.

This notice is issued under authority of 5 U.S.C. 552(a).

Dated: August 18, 2015.
J.G. Lantz,
Director of Commercial Regulations and Standards, U.S. Coast Guard.

[FR Doc. 2015-20825 Filed 8-21-15; 8:45 am]

BILLING CODE 9110-04-P